FARM CREDIT ADMINISTRATION

12 CFR Part 611

RIN 3052-AC72

Organization; Mergers, Consolidations, and Charter Amendments of Banks or Associations

AGENCY: Farm Credit Administration.

ACTION: Notice of effective date.

SUMMARY: The Farm Credit Administration (FCA or our) amended our regulations related to mergers and consolidations of Farm Credit System banks and associations to clarify the merger review and approval process and incorporate existing practices in the regulations. In accordance with the law, the effective date of the rule is no earlier than 30 days from the date of publication in the Federal Register during which either or both Houses of Congress are in session.

DATES: Effective Date: Under the authority of 12 U.S.C. 2252, the regulation amending 12 CFR part 611 published on August 24, 2015 (80 FR 51113) is effective November 2, 2015.

FOR FURTHER INFORMATION CONTACT:

Shirley Hixson, Policy Analyst, Office of Regulatory Policy, Farm Credit Administration, McLean, VA 22102-5090, (703) 883-4318, TTY (703) 883-4056,

or

Laura McFarland, Senior Counsel, Office of General Counsel, Farm Credit Administration, McLean, VA 22102-5090, (703) 883-4071, TTY (703) 883-4056.

SUPPLEMENTARY INFORMATION: The Farm Credit Administration (FCA or our) amended our regulations related to mergers and consolidations of Farm Credit System banks and associations to clarify the merger review and approval process and incorporate existing practices in the regulations. In accordance with 12 U.S.C. 2252, the effective date of the final rule is no earlier than 30 days from the date of publication in the Federal Register during which either or both Houses of Congress are in session. Based on the records of the sessions of Congress, the effective date of the regulations is November 2, 2015.

(12 U.S.C. 2252(a)(9) and (10))

Date: October 27, 2015.
Dale L. Aultman,
Secretary, Farm Credit Administration Board.

[FR Doc. 2015-27895 Filed 10-30-15; 8:45 am]

BILLING CODE 6705-01-P